DEPARTMENT OF COMMERCE

National Oceanic and Atmospheric Administration

50 CFR Part 300

RIN 0648-XA803

Fraser River Sockeye and Pink Salmon Fisheries; Inseason Orders

AGENCY: National Marine Fisheries Service (NMFS), National Oceanic and Atmospheric Administration (NOAA), Commerce.

ACTION: Temporary orders; inseason orders.

SUMMARY: NMFS publishes Fraser River salmon inseason orders to regulate treaty and non-treaty (all citizen) commercial salmon fisheries in U.S. waters. The orders were issued by the Fraser River Panel (Panel) of the Pacific Salmon Commission (Commission) and subsequently approved and issued by NMFS during the 2011 salmon fisheries within the U.S. Fraser River Panel Area. These orders established fishing dates, times, and areas for the gear types of U.S. treaty Indian and all citizen commercial fisheries during the period the Panel exercised jurisdiction over these fisheries.

DATES: The effective dates for the inseason orders are set out in this document under the heading Inseason Orders.

FOR FURTHER INFORMATION CONTACT: Peggy Mundy at (206) 526-4323.

SUPPLEMENTARY INFORMATION: The Treaty between the Government of the United States of America and the Government of Canada concerning Pacific Salmon was signed at Ottawa on January 28, 1985, and subsequently was given effect in the United States by the Pacific Salmon Treaty Act (Act) at 16 U.S.C. 3631-3644.

Under authority of the Act, Federal regulations at 50 CFR part 300, subpart F provide a framework for the implementation of certain regulations of the Commission and inseason orders of the Commission's Fraser River Panel for U.S. sockeye and pink salmon fisheries in the Fraser River Panel Area.

The regulations close the U.S. portion of the Fraser River Panel Area to U.S. sockeye and pink salmon Tribal and non-Tribal commercial fishing unless opened by Panel orders that are given effect by inseason regulations published by NMFS. During the fishing season, NMFS may issue regulations that establish fishing times and areas consistent with the Commission agreements and inseason orders of the Panel. Such orders must be consistent with domestic legal obligations and are issued by Regional Administrator, Northwest Region, NMFS. Official notification of these inseason actions is provided by two telephone hotline numbers described at 50 CFR 300.97(b)(1) and in 76 FR 25246 (May 4, 2011). The inseason orders are published in the Federal Register as soon as practicable after they are issued. Due to the frequency with which inseason orders are issued, publication of individual orders is impractical. Therefore, the 2011 orders are being published in this single document to avoid fragmentation.

Inseason Orders

The following inseason orders were adopted by the Panel and issued for U.S. fisheries by NMFS during the 2011 fishing season. Each of the following inseason actions was effective upon announcement on telephone hotline numbers as specified at 50 CFR 300.97(b)(1) and in 76 FR 25246 (May 4, 2011); those dates and times are listed herein. The times listed are local times, and the areas designated are Puget Sound Management and Catch Reporting Areas as defined in the Washington State Administrative Code at Chapter 220-22.

Order Number 2011-01: Issued 12:30 p.m., July 26, 2011

Treaty Indian Fisheries

Areas 4B, 5, and 6C: Open to drift gillnets from 6 p.m., Tuesday, July 26, 2011 to 12 p.m. (noon), Saturday, July 30, 2011.

Order Number 2011-02: Issued 11:30 a.m., July 29, 2011

Treaty Indian Fisheries

Areas 4B, 5, and 6C: Open to drift gillnets, extended from 12 p.m. (noon), Saturday, July 30, 2011 to 12 p.m. (noon), Wednesday, August 3, 2011.

Order Number 2011-03: Issued 12:30 p.m., August 2, 2011

Treaty Indian Fisheries

Areas 4B, 5, and 6C: Extend for drift gillnets from 12 p.m. (noon), Wednesday, August 3, 2011, to 12 p.m. (noon), Thursday, August 4, 2011.

Order Number 2011-04: Issued 11:45 a.m., August 3, 2011

Treaty Indian Fisheries

Areas 4B, 5, and 6C: Extend for drift gillnets from 12 p.m. (noon) Thursday, August 4, 2011 to 12 p.m. (noon) Saturday, August 6, 2011.

Areas 6, 7, and 7A: Open to net fishing from 5 a.m. Thursday, August 4, 2011 to 9 a.m. Friday, August 5, 2011.

All Citizen Fisheries

Areas 7 and 7A: Open to gillnets from 2 p.m. to 11:59 p.m. (midnight) Friday, August 5, 2011.

Areas 7 and 7A: Open to purse seines from 9 a.m. to 7 p.m. Friday, August 5, 2011.

Areas 7 and 7A: Open to reefnets from 5 a.m. to 3 p.m. Saturday, August 6, 2011.

Order Number 2011-05: Issued 1:30 p.m., August 5, 2011

Treaty Indian Fisheries

Areas 4B, 5, and 6C: Extend for drift gillnets from 12 p.m. (noon), Saturday, August 6, 2011, to 12 p.m. (noon), Tuesday, August 9, 2011.

Areas 6, 7, and 7A: Open to net fishing from 5 a.m. Saturday, August 6, 2011 to 11:59 p.m. Saturday, August 6, 2011.

Order Number 2011-06: Issued 3 p.m., August 8, 2011

Treaty Indian Fisheries

Areas 4B, 5, and 6C: Extend for drift gillnets from 12 p.m. (noon), Tuesday, August 9, 2011, through 12 p.m. (noon) Wednesday, August 10, 2011.

Order Number 2011-07: Issued 12:30 p.m., August 9, 2011

Treaty Indian Fisheries

Areas 4B, 5, and 6C: Extend for drift gillnets from 12 p.m. (noon) Wednesday, August 10, 2011 through 12 p.m. (noon) Saturday, August 13, 2011.

Areas 6, 7, and 7A: Open to net fishing from 5 a.m. to 11:59 p.m. (midnight) Wednesday, August 10, 2011.

All Citizen Fisheries

Areas 7 and 7A: Open to gillnets from 8 a.m. to 11:59 p.m. (midnight) Thursday, August 11, 2011.

Areas 7 and 7A: Open to purse seines from 9 a.m. to 5 p.m. Thursday, August 11, 2011.

Areas 7 and 7A: Open to reefnets from 5 a.m. to 9 p.m. Thursday, August 11, 2011.

Order Number 2011-08: Issued 1:40 p.m., August 12. 2011

Treaty Indian Fisheries

Areas 4B, 5, and 6C: Extend for drift gillnets from 12 p.m. (noon) Saturday, August 13, 2011 through 12 p.m. (noon) Tuesday, August 16, 2011.

All Citizen Fisheries

Areas 7 and 7A: Open to gillnets from 12 p.m. (noon) to 11:59 p.m. (midnight) Sunday, August 14, 2011.

Areas 7 and 7A: Open to purse seines from 10 a.m. to 4 p.m. Monday, August 15, 2011.

Areas 7 and 7A: Open to reefnets from 12 p.m. (noon) to 8 p.m. Saturday, August 13, 2011, and from 12 p.m. (noon) to 8 p.m. Sunday, August 14, 2011.

Order Number 2011-09: Issued 2:25 p.m., August 15, 2011

Treaty Indian Fisheries

Areas 4B, 5, and 6C: Extend for drift gillnets from 12 p.m. (noon) Tuesday, August 16, 2011, through 12 p.m. (noon) Wednesday, August 17, 2011.

Order Number 2011-10: Issued 1:15 p.m., August 19, 2011

Treaty Indian Fisheries

Areas 4B, 5, and 6C: Open for drift gillnets from 12 p.m. (noon) Saturday, August 20 through 12 p.m. (noon) Wednesday, August 24, 2011.

Areas 6, 7, and 7A: Open to net fishing from 5 a.m. Monday, August 22, 2011 through 9 a.m. Tuesday, August 23, 2011.

Order Number 2011-11: Issued 1:30 p.m., August 23, 2011

Treaty Indian Fisheries

Areas 4B, 5, and 6C: Extend for drift gillnets from 12 p.m. (noon) Wednesday, August 24, 2011 through 12 p.m. (noon) Saturday, August 27, 2011.

Areas 6, 7, and 7A: Open to net fishing from 5 a.m. Thursday, August 25, 2011 through 11:59 p.m. (midnight) Friday, August 26, 2011.

All Citizen Fisheries

Areas 7 and 7A: Open to gillnets from 8 a.m. to 11:59 p.m. (midnight) Wednesday, August 24, 2011.

Areas 7 and 7A: Open to purse seines from 5 a.m. to 9 p.m. Wednesday, August 24, 2011.

Areas 7 and 7A: Open to reefnets from 5 a.m. to 9 p.m. Wednesday, August 24, 2011, Thursday, August 25, 2011, and Friday August 26, 2011.

Order Number 2011-12: Issued 1:45 p.m., August 26, 2011

Treaty Indian Fisheries

Areas 4B, 5, and 6C: Extend for drift gillnets from 12 p.m. (noon) Saturday, August 27, 2011 through 12 p.m. (noon) Tuesday, August 30, 2011.

All Citizen Fisheries

Areas 7 and 7A: Open to reefnets with non-retention of sockeye from 5 a.m. to 9 p.m. Saturday, August 27, 2011, Sunday, August 28, 2011, and Monday August 29, 2011.

Order Number 2022-13: Issued 1 p.m., August 29, 2011

Treaty Indian Fisheries

Areas 4B, 5, and 6C: Extend for drift gillnets from 12 p.m. (noon) Tuesday, August 30, 2011 through 12 p.m. (noon) Friday, September 2, 2011.

Areas 6, 7, and 7A: Open to net fishing from 5 a.m. until 11:59 p.m. (midnight) Tuesday, August 30, 2011.

All Citizen Fisheries

Areas 7 and 7A: Open to gillnets with non-retention of sockeye from 8 a.m. to 11:59 p.m. (midnight) Wednesday, August 31, 2011.

Areas 7 and 7A: Open to purse seines with non-retention of sockeye from 5 a.m. to 9 p.m. Wednesday, August 31, 2011.

Areas 7 and 7A: Open to reefnets with non-retention of sockeye from 5 a.m. to 9 p.m. Tuesday, August 30, 2011, Wednesday, August 31, 2011 and Thursday, September 1, 2011.

Order Number 2011-14: Issued 1:30 p.m., September 1, 2011

Treaty Indian Fisheries

Areas 4B, 5, and 6C: Extend for drift gillnets from 12 p.m. (noon) Friday, September 2, 2011 through 12 p.m. (noon) Wednesday, September 7, 2011.

Areas 6, 7, and 7A: Open to net fishing from 5 a.m. Friday, September 2, 2011 until 11 a.m. Sunday, September 4, 2011, in the area southerly and easterly of a straight line drawn from Iwersen's dock on Point Roberts in the State of Washington to the Georgina Point Light at the entrance to Active Pass in the Province of British Columbia.

All Citizen Fisheries

Areas 7 and 7A: Open to gillnets with non-retention of sockeye from 11 a.m. to 11:59 p.m. (midnight) Sunday, September 4, 2011, in the area southerly and easterly of a straight line drawn from Iwersen's dock on Point Roberts in the State of Washington to the Georgina Point Light at the entrance to Active Pass in the Province of British Columbia.

Areas 7 and 7A: Open to purse seines with non-retention of sockeye from 11 a.m. to 9 p.m. Sunday, September 4, 2011, in the area southerly and easterly of a straight line drawn from Iwersen's dock on Point Roberts in the State of Washington to the Georgina Point Light at the entrance to Active Pass in the Province of British Columbia.

Areas 7 and 7A: Open to reefnets with non-retention of sockeye daily from 5 a.m. to 9 p.m. Friday, September 2, 2011 through Tuesday, September 6, 2011.

Order Number 2011-15: Issued 11:30 a.m., September 2, 2011

Treaty Indian Fisheries

Areas 6, 7, and 7A: Open to net fishing from 5 a.m. Monday, September 5, 2011 until 9 a.m. Tuesday, September 6, 2011, in the area southerly and easterly of a straight line drawn from Iwersen's dock on Point Roberts in the State of Washington to the Georgina Point Light at the entrance to Active Pass in the Province of British Columbia.

All Citizen Fisheries

Areas 7 and 7A: Open to gillnets with non-retention of sockeye from 8:15 a.m. to 11:59 p.m. (midnight) Tuesday, September 6, 2011, in the area southerly and easterly of a straight line drawn from Iwersen's dock on Point Roberts in the State of Washington to the Georgina Point Light at the entrance to Active Pass in the Province of British Columbia.

Areas 7 and 7A: Open to purse seines with non-retention of sockeye from 5 a.m. to 9 p.m. Tuesday, September 6, 2011, in the area southerly and easterly of a straight line drawn from Iwersen's dock on Point Roberts in the State of Washington to the Georgina Point Light at the entrance to Active Pass in the Province of British Columbia.

Order Number 2011-16: Issued 12:30 p.m., September 6, 2011

Treaty Indian Fisheries

Areas 4B, 5, and 6C: Extend for drift gillnets from 12 p.m. (noon) Wednesday, September 7, 2011 through 9 a.m. Friday, September 9, 2011.

Areas 6, 7, and 7A: Open to net fishing from 5 a.m. Wednesday, September 7, 2011 until 9 a.m. Friday, September 9, 2011, in the area southerly and easterly of a straight line drawn from Iwersen's dock on Point Roberts in the State of Washington to the Georgina Point Light at the entrance to Active Pass in the Province of British Columbia.

All Citizen Fisheries

Areas 7 and 7A: Open to reefnets with non-retention of sockeye from 5 a.m. to 9 p.m. Wednesday, September 7, 2011 and Thursday, September 8, 2011.

Order Number 2011-17: Issued 1 p.m., September 12, 2011

Treaty Indian Fisheries

Areas 4B, 5, and 6C: Open for drift gillnets from 5 a.m. until 11:59 p.m. (midnight) Tuesday, September 13, 2011.

Areas 6, 7, and 7A: Open to net fishing from 5 a.m. until 11:59 p.m. (midnight) Tuesday, September 13, 2011, in the area southerly and easterly of a straight line drawn from Iwersen's dock on Point Roberts in the State of Washington to the Georgina Point Light at the entrance to Active Pass in the Province of British Columbia.

Order Number 2011-18: Issued 9 a.m., September 19, 2011

Areas 6 and 7: Relinquish regulatory control effective 11:59 p.m. (midnight), Saturday, September 24, 2011.

Area 7A: The area easterly of the Eastpoint Light line will be relinquished as scheduled at 11:59 p.m. (midnight) on Saturday, October 1, 2011. The remainder of Area 7A (westerly of the Eastpoint Light line) will be relinquished as scheduled at 11:59 p.m. (midnight) on Saturday, October 8, 2011.

Classification

The Assistant Administrator for Fisheries NOAA (AA), finds that good cause exists for the inseason orders to be issued without affording the public prior notice and opportunity for comment under 5 U.S.C. 553(b)(B) as such prior notice and opportunity for comments is impracticable and contrary to the public interest. Prior notice and opportunity for public comment is impracticable because NMFS has insufficient time to allow for prior notice and opportunity for public comment between the time the stock abundance information is available to determine how much fishing can be allowed and the time the fishery must open and close in order to harvest the appropriate amount of fish while they are available.

The AA also finds good cause to waive the 30-day delay in the effective date, required under 5 U.S.C. 553(d)(3), of the inseason orders. A delay in the effective date of the inseason orders would not allow fishers appropriately controlled access to the available fish at that time they are available.

This action is authorized by 50 CFR 300.97, and is exempt from review under Executive Order 12866.

Authority: 16 U.S.C. 3636(b).

Dated: November 4, 2011.
Steven Thur,
Acting Director, Office of Sustainable Fisheries, National Marine Fisheries Service.

[FR Doc. 2011-29192 Filed 11-9-11; 8:45 am]

BILLING CODE 3510-22-P